DEPARTMENT OF TRANSPORTATION

Research and Special Programs Administration

[Docket No. RSPA-2001-8761 (Notice No. 01-10)]

Notice of Information Collection Approval

AGENCY: Research and Special Programs Administration (RSPA), DOT.

ACTION: Notice of information collection approval.

SUMMARY: This notice announces OMB approval of information collection requests (ICRs) for OMB No. 2137-0022, “Testing, Inspection and Marking Requirements for Cylinders” OMB No. 2137-0039, “Hazardous Materials Incident Reports” OMB No. 2137-0542, “Flammable Cryogenic Liquids” OMB No. 2137-0572, “Testing Requirements for Non-Bulk Packaging” OMB No. 2137-0582, “Container Certification Statement” OMB No. 2137-0586, “Hazardous Materials Public Sector Training and Planning Grants” OMB No. 2137-0591, “Response Plans for Shipments of Oil” and OMB No. 2137-0595, “Cargo Tank Motor Vehicles in Liquefied Compressed Gas Service”.

DATES: The expiration dates for these ICRs are September 30, 2004 and October 31, 2004.

ADDRESSES: Requests for a copy of an information collection should be directed to Deborah Boothe, Office of Hazardous Materials Standards (DHM-10), Research and Special Programs Administration, Room 8102, 400 Seventh Street, SW., Washington, DC 20590-0001, Telephone (202) 366-8553.

FOR FURTHER INFORMATION CONTACT: Deborah Boothe, Office of Hazardous Materials Standards (DHM-10), Research and Special Programs Administration, Room 8102, 400 Seventh Street, SW., Washington, DC 20590-0001, Telephone (202) 366-8553.

SUPPLEMENTARY INFORMATION: Office of Management and Budget (OMB) regulations (5 CFR 1320) implementing provisions of the Paperwork Reduction Act of 1995 (Pub. L. 104-13) require that interested members of the public and affected agencies have an opportunity to comment on information collection and recordkeeping activities (see 5 CFR 1320.8(s)) and specify that no person is required to respond to an information collection unless it displays a valid OMB control number. In accordance with the Paperwork Reduction Act of 1995, RSPA has received OMB approval for the following ICRs.

Title: Testing, Inspection and Marking Requirements for Cylinders.

OMB Control Number: 2137-0022.

Expiration Date: October 31, 2004.

Title: Hazardous Materials Incident Reports.

OMB Control Number: 2137-0039.

Expiration Date: October 31, 2004.

Title: Flammable Cryogenic Liquids.

OMB Control Number: 2137-0542.

Expiration Date: October 31, 2004.

Title: Testing Requirements for Non-bulk Packaging.

OMB Control Number: 2137-0572.

Expiration Date: September 30, 2004.

Title: Container Certification Statement.

OMB Control Number: 2137-0582.

Expiration Date: September 30, 2004.

Title: Hazardous Materials Public Sector Training and Planning Grants.

OMB Control Number: 2137-0586.

Expiration Date: September 30, 2004.

Title: Response Plans for Shipments of Oil.

OMB Control Number: 2137-0591.

Expiration Date: October 31, 2004.

Title: Cargo Tank Motor Vehicles in Liquefied Compressed Gas Service.

OMB Control Number: 2137-0595.

Expiration Date: October 31, 2004.

Issued in Washington, DC on October 11, 2001.
Edward T. Mazzullo,
Director, Office of Hazardous Materials Standards.

[FR Doc. 01-26148 Filed 10-16-01; 8:45 am]

BILLING CODE 4910-60-P